DEPARTMENT OF STATE

[Public Notice 4737]

ITAC Meeting To Review Results of ITU-T Study Group 3 Meeting of June 2004

SUMMARY: A meeting of the International Telecommunication Advisory Committee to review results of ITU-T Study Group 3 (Tariff and accounting principles) of June 2004 has been scheduled.

The International Telecommunication Advisory Committee (ITAC) will meet on July 7, 2004 from 9:30-noon debrief the June 2004 meeting of ITU-T Study Group 3 (Tariff and accounting principles) and to make plans for continuing the work at following meetings. The meeting will be hosted at the offices of Squire, Sanders, & Dempsey, 1201 Pennsylvania Avenue, NW., Washington, DC 20044-0407. A detailed agenda will be published on the following e-mail reflector: SGA@eblist.state.gov. People desiring to attend the meeting who are not on this list may request the information from the Secretariat at minardje@state.gov.

Dated: June 19, 2004.
Marian R. Gordon,
Director, Telecommunication & Information Standardization, , Department of State.

[FR Doc. 04-14344 Filed 6-23-04; 8:45 am]

BILLING CODE 4710-45-P